DEPARTMENT OF LABOR

Employment and Training Administration

[TA-W-40,857, TA-W-40,847A, TA-W-40,857B and TA-W-40,857C]

Fairbanks Morse Engine Coltec Industries, Inc. Division of Goodrich Corp. Beloit, Wisconsin, Norfolk, VA, Seattle, WA, Houston, TX; Amended Certification Regarding Eligibility To Apply for Worker Adjustment Assistance

In accordance with section 223 of the Trade Act of 1974 (19 U.S.C. 2273) the Department of Labor issued a Certification of Eligibility to Apply for Worker Adjustment Assistance on March 26, 2002, applicable to workers of Fairbanks Morse Engine, Beloit, Wisconsin, Norfolk, Virginia, Seattle, Washington and Houston, Texas. The notice was published in the Federal Register on April 5, 2002 (67 FR 16441).

At the request of the State agency, the Department reviewed the certification for workers of the subject firm. The workers are engaged in the production of large diesel and duel fuel engines for ship propulsion and power generation.

New Information received from the State and the company shows that in 1999, Fairbanks Morse Engine merged with Coltec Industries, Inc., a division of Goodrich Corp. Information also shows that workers separated from employment at the subject firm had their wages reported under a separate unemployment insurance (UI) tax account for Fairbanks Morse Engine, Coltec Industries, Inc., a Division of Goodrich Corp.

Accordingly, the Department is amending the certification to properly reflect this matter.

The amended notice applicable to TA-W-40,857, TA-W-40,857A, TA-W-40,857B, TA-W-40,857C and TA-W-40,857D are hereby issued as follows:

All workers of Fairbanks Morse Engine, Coltec Industries, Inc., a division of Goodrich Corp., Beloit, Wisconsin (TA-W-40,857), Norfolk, Virginia (TA-W-40,857A), Seattle, Washington (TA-W-40,857B), Houston, Texas (TA-W-40,857C) who became totally or partially separated from employment on or after December 13, 2000, through March 26, 2004, are eligible to apply for adjustment assistance under Section 223 of the Trade Act of 1974.

Signed at Washington, DC, this 18th day of April, 2002.
Linda G. Poole,
Certifying Officer, Division of Trade Adjustment Assistance.

[FR Doc. 02-10895 Filed 5-1-02; 8:45 am]

BILLING CODE 4510-30-M